DEPARTMENT OF DEFENSE

Department of the Army; Corps of Engineers

Coastal Engineering Research Board (CERB)

AGENCY: Department of the Army, DoD.

ACTION: Notice of meeting.

SUMMARY: In accordance with Section 10(a)(2) of the Federal Advisory Committee Act (Pub. L. 92-463), announcement is made of the following committee meeting:

Name of Committee: Coastal Engineering Research Board (CERB).

Date of Meeting: July 17-19, 2006.

Place: U.S. Army Engineer Research and Development Center, Coastal and Hydraulics Laboratory, 3909 Halls Ferry Road, Vicksburg, MS 39180-6199.

Time: 10 a.m. to 4:30 p.m. (July 17, 2006). 8 a.m. to 5:30 p.m. (July 18, 2006). 8:30 a.m. to 4:30 p.m. (July 19, 2006).

For Further Information Contact: Inquiries and notice of intent to attend the meeting may be addressed to Colonel James R. Rowan, Executive Secretary, Commander, U.S. Army Engineer Research and Development Center, Waterways Experiment Station, 3909 Halls Ferry Road, Vicksburg, MS 39180-6199.

Supplementary Information: The Board provides broad policy guidance and review of plans and fund requirements for the conduct of research and development of research projects in consonance with the needs of the coastal engineering field and the objectives of the Chief of Engineers.

Proposed Agenda: For Board members, July 17th is devoted to tours and briefings on Planning Centers for Expertise (Environmental and Coastal Storm Damage Reduction). Tuesday, July 18th, is devoted to Board Executive Session discussing ongoing initiatives and actions. Wednesday, July 19th, is a joint meeting with the Environmental Advisory Board with presentations concerning Coastal Restoration Challenges. These presentations are entitled “Interagency Performance Evaluation Taskforce,” “Louisiana Coastal Protection and Restoration Project,” “Mississippi Coastal Improvement Project,” and “Louisiana Coastal Area.” During the afternoon, the members of the Board will again meet in Executive Session.

These meetings are open to the public; participation by the public is scheduled for 2:30 p.m. on July 19, 2006.

The entire meeting is open to the public, but since the meeting will be held in a government facility and seating capacity of the meeting is limited, advance notice of attendance is required. All attendees must stop at the guard gate and give your name and destination to the attending guard. A list of attendees will be provided to security. Oral participation by public attendees is encouraged during the time scheduled on the agenda; written statements may be submitted prior to the meeting or up to 30 days after the meeting.

Brenda S. Bowen,
Army Federal Register Liaison Officer.

[FR Doc. 06-5919 Filed 6-29-06; 8:45 am]

BILLING CODE 3710-61-M